DEPARTMENT OF THE INTERIOR

Bureau of Land Management

[LLNVS00000.L51010000.ER0000. LVRWF2107480.21X; N-99406; MO#4500163153]

Notice of Intent To Prepare an Environmental Impact Statement and Amend the Resource Management Plan for the Proposed Rough Hat Clark County Solar Project in Clark County, Nevada

AGENCY: Bureau of Land Management, Department of Interior.

ACTION: Notice of intent; request for comments.

SUMMARY: As requested by Candela Renewables, LLC, and in compliance with the National Environmental Policy Act of 1969, as amended (NEPA), and the Federal Land Policy and Management Act of 1976, as amended (FLPMA), the Bureau of Land Management (BLM) Nevada State Director intends to prepare a Resource Management Plan (RMP) amendment with an associated Environmental Impact Statement (EIS) to consider the effects of the proposed Rough Hat Clark County Solar Project. By this notice the BLM is announcing the beginning of the scoping period to solicit public comments and identify issues, and is providing the planning criteria for public review.

DATES: Your comments concerning the scope of the analysis, potential alternatives, and identification of relevant information, and studies must be received by BLM by December 5, 2022 or 15 days after the last public meeting, whichever is later. The BLM will conduct two public scoping meetings (virtually) which will be held November 15 and November 16, 2022 from 6 p.m. to 8 p.m. Pacific time. Additional information on the meetings, including how to register, can be found on the project ePlanning website at: https://eplanning.blm.gov/eplanning-ui/project/2019992/510.

ADDRESSES: You may submit comments by any of the following methods:

• Online via ePlanning: https://eplanning.blm.gov/eplanning-ui/project/2019992/510.

• Email: BLM_NV_SND_EnergyProjects@blm.gov.

• Mail: BLM, Las Vegas Field Office, Attn: Rough Hat Clark County Solar Project, 4701 North Torrey Pines Drive, Las Vegas, NV 89130-2301.

Documents pertinent to this proposal may be examined online at the project ePlanning page: https://eplanning.blm.gov/eplanning-ui/project/2019992/510 and at the Southern Nevada District Office.

FOR FURTHER INFORMATION CONTACT: Whitney Wirthlin, Project Manager, telephone (725) 249-3318; address 4701 North Torrey Pines Drive, Las Vegas, NV 89130-2301; email BLM_NV_SND_EnergyProjects@blm.gov. Contact Whitney Wirthlin to have your name added to our mailing list. Individuals in the United States who are deaf, deafblind, hard of hearing, or have a speech disability may dial 711 (TTY, TDD, or TeleBraille) to access telecommunications relay services for contacting Whitney Wirthlin. Individuals outside the United States should use the relay services offered within their country to make international calls to the point-of-contact in the United States.

SUPPLEMENTARY INFORMATION: This document provides notice that the BLM intends to prepare an RMP amendment with an associated EIS for the Rough Hat Clark County Solar Project, announces the beginning of the scoping process, and seeks public input on issues and planning criteria. The RMP amendment is being considered to allow the BLM to evaluate the Rough Hat Clark County Solar Project, which would require amending the existing 1998 Las Vegas RMP.

On November 14, 2019, Candela Renewables, LLC submitted a right-of-way application to the BLM Las Vegas Field Office for the Rough Hat Clark County Solar Project (Project) requesting authorization to construct, operate, maintain, and eventually decommission a 400-megawatt photovoltaic solar electric generating facility, battery storage facilities, associated generation tie-line, and access road facilities. The proposed Project requests use of approximately 2,400 acres of federal lands administered by the BLM. The proposed project is in Clark County, southeast of the town of Pahrump and approximately 38 miles west of Las Vegas. The electricity generated would be collected at the onsite substation and conveyed to the approved Trout Canyon Substation located south of the project site via a generation (gen-tie) transmission line. Construction for the facilities is estimated to take approximately 12 to 18 months. The lands within the proposed Project area were segregated, subject to valid existing rights, for a term of two years beginning October 20, 2021, with publication of the Notice of Segregation in the Federal Register.

Preliminary Purpose and Need

The BLM's preliminary purpose and need for this Federal action is to respond to the FLPMA right-of-way applications submitted by Candela Renewables, LLC under title V of FLPMA (43 U.S.C. 1761) to construct, operate, maintain, and decommission a solar generation power plant and ancillary facilities on approximately 2,400 acres of BLM land in Clark County, Nevada, in compliance with FLPMA, BLM right-of-way regulations, U.S. Department of the Interior NEPA regulations, and other applicable federal and state laws and policies. In accordance with FLPMA, public lands are to be managed for multiple uses that consider the long-term needs of future generations for renewable and non-renewable resources. The BLM is authorized to grant rights-of-way on public lands for systems of generation, transmission, and distribution of electrical energy (section 501(a)(4)). The preliminary purpose and need also includes an amendment to the 1998 Las Vegas RMP to address a potential Visual Resource Management Class modification to respond to the proponent's application.

Preliminary Proposed Action and Alternatives

The Proposed Action is to approve a right-of-way to Candela Renewables, LLC to construct, operate, and eventually decommission the proposed solar project and associated facilities with the potential to generate 400-megawatts of alternating current energy on 2,400 acres of BLM administered lands. The Proposed Action also includes an amendment to the 1998 Las Vegas RMP in order to adjust the Visual Resource Management Class.

The Visual Resource Management Class for the project area includes Class III, which requires a RMP amendment to change the Class III area to Class IV in order for the project to be consistent with the RMP, per the BLM Land Use Planning Handbook (H-1601-1 section VII.B).

Additional action alternatives have not been identified to date but would be developed by taking into consideration comments and input submitted during the application evaluation determination process and scoping.

The No Action Alternative would involve the BLM not issuing a right-of-way grant for the solar project and associated facilities. The proposed Project would not be constructed, and existing land uses in the project area would continue. Additionally, the BLM would not undertake a RMP amendment to adjust Visual Resource Management Classes. The BLM welcomes comments on all preliminary alternatives as well as suggestions for additional alternatives.

Planning Criteria

The planning criteria guide the planning effort and lay the groundwork for effects analysis by identifying the preliminary issues and their analytical frameworks. Preliminary issues for the planning area have been identified by BLM personnel and from early engagement conducted for this planning effort with Federal, State, and local agencies; Tribes; and other stakeholders. The BLM has identified preliminary issues for this planning effort's analysis. The planning criteria are available for public review and comment at the ePlanning website: https://eplanning.blm.gov/eplanning-ui/project/2019992/510.

Summary of Expected Impacts

The analysis in the EIS will be focused on the proposed solar project and associated facilities, including battery storage and transmission line construction. The BLM evaluated the proposed Project application per the variance process described in the Programmatic Environmental Impact Statement for Solar Energy Development in Six Southwestern States. Through this process, the BLM completed public outreach and coordination with agencies and Indian Tribal Nations specific to the proposed Project. From the input received, the expected impacts from construction, operation, and eventual decommissioning of the solar project, associated facilities, and the RMP amendment could include:

• Potential desert tortoise habitat disturbance and changes in genetic connectivity habitat from construction of the proposed facilities;

• Potential effects to cultural resources in the project area from construction activities;

• Potential modifications to the visual character of the area, as well as changes to the Visual Resource Management Class from III to IV proposed as a change to the RMP;

• Potential effects to basin groundwater resources from the proposed construction water needs for the Project;

• Potential socioeconomic impacts from the proposed Project to local communities;

• Potential air quality impacts from proposed construction activities;

• Potential impacts to vegetation species from construction, operations, and decommissioning of the Project and associated facilities;

• Potential effects to the recreational opportunities and public use of the proposed Project area due to construction and operations of the solar facility; and

• Potential cumulative effects from other reasonably foreseeable actions in the area.

Preliminary issues for the Project have been identified by the BLM, other Federal agencies, the State, local agencies, Tribes, and the public during the variance process. The following resources, or resource uses, have potential issues that will need to be analyzed in detail in the EIS: threatened and endangered species, biological resources, vegetation resources, visual resources, cultural resources, air quality, climate change, recreation, socioeconomics, water resources, and other reasonably foreseeable effects from other projects in the area. Habitat for the federally listed desert tortoise is in this project area.

Anticipated Permits and Authorizations

Along with the right-of-way grant issued by the BLM, Candela Renewables, LLC anticipates needing the following authorizations and permits for the proposed Project: Biological Opinion and Incidental Take Permit from the U.S. Fish and Wildlife Service under section 7 of the Endangered Species Act; section 404 Permit from U.S. Army Corps of Engineers; Consultation under section 106 of the National Historic Preservation Act with the Advisory Council on Historic Preservation and Nevada State Historic Preservation Office; Consultation and Take Permit from Nevada Department of Wildlife; Nevada Division of Environmental Protection Stormwater discharge permits; Nevada Public Utilities Commission Environmental Protection Act Permit; Nevada Division of Forestry Cacti and Yucca Salvage Permit; Clark County Department of Air Quality Dust Control Permit; Clark County Regional Flood Control District drainage study review; Clark County Department of Comprehensive Planning special use permit; and Clark County Building Department permits. Further details on these permitting requirements may be found in the preliminary Plan of Development for the Rough Hat Clark County Solar Project.

Schedule for the Decision-Making Process

The BLM will provide additional opportunities for public participation consistent with the NEPA and land use planning processes, including a 90-day comment period on the Draft EIS/RMP amendment and concurrent 30-day public protest period and 60-day Governor's consistency review on the Proposed RMP amendment. The Draft EIS/RMP amendment is anticipated to be available for public review in summer 2023, and if the proposed action or alternative action is approved, the Final EIS/Proposed RMP amendment is anticipated to be available for public protest of the Proposed RMP amendment in winter 2024 with an Approved RMP amendment and Record of Decision in spring 2024.

Public Scoping Process

This notice of intent initiates the scoping period and public review of the planning criteria, which guide the development and analysis of the Draft EIS/RMP amendment.

The BLM will be holding two virtual scoping meetings. The specific date(s) and location(s) of these scoping meetings will be announced at least 15 days in advance through the project ePlanning web page: https://eplanning.blm.gov/eplanning-ui/project/2019992/510.

The purpose of the public scoping process is to determine relevant issues that will influence the scope of the environmental analysis, including alternatives and mitigation measures, and to guide the process for developing the EIS. Federal, State, and local agencies, along with other stakeholders that may be interested or affected by the BLM's decision on this project, are invited to participate in the scoping process and, if eligible, may request or be requested by the BLM to participate as a cooperating agency. The BLM encourages comments concerning the proposed Rough Hat Clark County Solar Project and RMP amendment, possible measures to minimize and/or avoid adverse environmental impacts, and any other information relevant to the Proposed Action.

The BLM also requests assistance with identifying potential alternatives to the Proposed Action. As alternatives should resolve a problem with the Proposed Action, please indicate the purpose of the suggested alternative. In addition, the BLM requests the identification of potential issues that should be analyzed. Issues should be a result of the Proposed Action or alternatives; therefore, please identify the activity along with the potential issues.

Lead and Cooperating Agencies

The BLM Las Vegas Field Office is the lead agency for this EIS and RMP amendment. The BLM has initially invited 27 agencies and 15 Indian Tribal Nations to be cooperating agencies to participate in the environmental analysis of the Project.

Of those invited, to date nine agencies have accepted cooperating agency status: U.S. Fish and Wildlife Service Ecological Services Program, U.S. Fish and Wildlife Service Migratory Bird Program, U.S. Environmental Protection Agency Region 9, Clark County Department of Aviation, Clark County Department of Environment and Sustainability, Nye County, Nevada Department of Wildlife, Nevada Division of Emergency Management, and Nevada Department of Public Safety. Additional agencies and organizations may be identified as potential cooperating agencies to participate in the environmental analysis of the Project.

Responsible Official

The Nevada State Director is the deciding official for this Proposed Action.

Nature of Decision To Be Made

The nature of the decision to be made will be the State Director's selection of land use planning decisions for managing BLM-administered lands under the principles of multiple use and sustained yield in a manner that best addresses the purpose and need.

The BLM will decide whether to grant, grant with conditions, or deny the application for the right of way. Pursuant to 43 CFR 2805.10, if the BLM issues a grant, the BLM decision maker may include terms, conditions, and stipulations determined to be in the public interest. The BLM will also make the decision whether or not to approve any RMP amendment, in accordance with BLM policy about delegation of authorities. In the Record of Decision, the BLM will clearly distinguish the RMP amendment decision from the selected alternative for the proposed Rough Hat Clark County Solar Project.

Interdisciplinary Team

The BLM will use an interdisciplinary approach to develop the EIS/RMP amendment in order to consider the variety of resource issues and concerns identified. Specialists with expertise in the following disciplines will be involved in this process: air quality, archaeology, botany, climate change (greenhouse gases), environmental justice, fire and fuels, geology/mineral resources, hazardous materials, hydrology, invasive/non-native species, lands and realty, National Conservation Lands, National Trails, public health and safety, recreation/transportation, socioeconomics, soils, visual resources, and wildlife.

Additional Information

The BLM will identify, analyze, and consider mitigation to address the reasonably foreseeable impacts to resources from the proposed action and all analyzed reasonable alternatives and, in accordance with 40 CFR 1502.14(e), include appropriate mitigation measures not already included in the proposed plan amendment or alternatives. Mitigation may include avoidance, minimization, rectification, reduction or elimination over time, and compensation. Mitigation may be considered at multiple scales, including the landscape scale.

The BLM will utilize and coordinate the NEPA and land use planning processes for this planning effort to help support compliance with applicable procedural requirements under the Endangered Species Act (16 U.S.C. 1536) and section 106 of the National Historic Preservation Act (54 U.S.C. 306108) as provided in 36 CFR 800.2(d)(3), including public involvement requirements of section 106. The information about historic and cultural resources and threatened and endangered species within the area potentially affected by the proposed Project will assist the BLM in identifying and evaluating impacts to such resources.

The BLM will continue to consult with Indian Tribal Nations on a government-to-government basis in accordance with Executive Order 13175, BLM MS 1780, and other policies. Tribal concerns, including impacts on Indian trust assets and potential impacts to cultural resources, will be given due consideration. Federal, State, and local agencies, along with Indian Tribal Nations, and other stakeholders that may be interested in or affected by the proposed action that the BLM is evaluating, are invited to participate in the scoping process and, if eligible, may request or be requested by the BLM to participate in the development of the environmental analysis as a cooperating agency. The BLM will send invitations to potentially affected Indian Tribal Nations prior to the meetings. The BLM will provide additional opportunities for government-to-government consultation during the NEPA process.

The BLM has initiated engagement with Indian Tribal Nations governments including sending letters to the Moapa Band of Paiutes, Las Vegas Paiute Tribe, Timbisha Shoshone, Chemehuevi Indian Tribe, Twenty-Nine Palms Band of Mission Indians, Fort Mojave Indian Tribe, and Colorado River Indian Tribes on March 31, 2021, to invite the Tribes to initiate formal government-to-government consultation. Additionally, the BLM sent letters to the Bishop Paiute Tribe, Fort Independence Indian Community of Paiute Indians, Kaibab Band of Paiute Indians, Paiute Indian Tribe of Utah, San Juan Southern Paiute Tribe, and the Utu Utu Gwaitu Paiute Tribe (Owens Valley Paiute Benton Reservation) on July 1, 2022, inviting the tribes to initiate formal government-to-government consultation. The BLM also sent letters to the Big Pine Paiute Tribe of Owens Valley and the Lone Pine Paiute-Shoshone Tribe on August 24, 2022, inviting the tribes to initiate formal government-to-government consultation and to participate as a Cooperating Agency for the Project. Tribal consultation for the project is ongoing.

The BLM will also use and coordinate the required National Historic Preservation Act review of this project with the NEPA process to fulfill the requirements under the National Historic Preservation Act (54 U.S.C. 306108) as provided in 36 CFR 800.8(c). The identification of historic properties and the assessment of effects of the undertaking on these properties will be carried out in a manner consistent with the standards and criteria outlined in 36 CFR 800.4 through 800.5. BLM will consult on the effects of the undertaking on historic properties with the Nevada State Historic Preservation Office, Indian Tribes that might attach religious and cultural significance to affected historic properties, other consulting parties, and the Advisory Council on Historic Preservation, where appropriate, during NEPA scoping, environmental analysis, and the preparation of NEPA documents. The public will be given the opportunity to be involved in accordance with BLM's NEPA procedures. In consultation with identified consulting parties, BLM will develop alternatives and proposed measures that might avoid, minimize, or mitigate any adverse effects of the undertaking on historic properties and describe them in the Draft EIS. The agency official will provide the Draft EIS/RMP amendment to the Nevada State Historic Preservation Office, Indian Tribal Nations that might attach religious and cultural significance to affected historic properties, the Advisory Council on Historic Preservation, and other consulting parties in accordance with 36 CFR 800.8(c) and the BLM's established NEPA procedures.

Before including your address, phone number, email address, or other personal identifying information in your comment, you should be aware that your entire comment—including your personal identifying information—may be made publicly available at any time. While you can ask us in your comment to withhold your personal identifying information from public review, we cannot guarantee that we will be able to do so.

(Authority: 43 CFR 1610.2 and 2800.)

Jon Raby,
State Director.

[FR Doc. 2022-22938 Filed 10-20-22; 8:45 am]

BILLING CODE 4310-HC-P